DEPARTMENT OF COMMERCE

Bureau of Industry and Security

15 CFR Parts 744 and 772

[Docket No. 220901-0180]

RIN 0694-AI06

Authorization of Certain “Items” to Entities on the Entity List in the Context of Specific Standards Activities

AGENCY: Bureau of Industry and Security, Commerce.

ACTION: Interim final rule with request for comments.

SUMMARY: In this interim final rule, the Bureau of Industry and Security (BIS) amends the Export Administration Regulations (EAR) to authorize the release of specified items subject to the EAR without a license when that release occurs in the context of a “standards-related activity,” as defined in this rule. BIS is revising the terms used in the EAR to describe the actions permissible under the authorization rather than defining the organizations to which it applies. The scope of the authorization is revised to include certain “technology” as well as “software” and applies to all entities listed on BIS's Entity List. The uncertainty of not knowing whether other entities listed on the Entity List are participants in standards organizations and whether a BIS license is required to release low-level technology for legitimate standards activities has caused U.S. companies to limit their participation in standards-related activities in areas that are critical to U.S. national security. This authorization only overcomes licensing requirements imposed as a result of an entity's inclusion on the Entity List; other EAR licensing requirements, including additional end-use or end-user based licensing requirements may continue to apply. This final rule does not change the assessment of whether “technology” or “software” is subject to the EAR. BIS is making these revisions to ensure that export controls and associated compliance concerns as they relate to the Entity List do not impede the leadership and participation of U.S. companies in national and international standards-related activities

DATES:

Effective date: This rule is effective September 9, 2022.

Comment date: Comments must be received by BIS no later than November 8, 2022.

ADDRESSES: You may submit comments, identified by docket number BIS-2020-0017 or RIN 0694-AI06, through the Federal eRulemaking Portal: http://www.regulations.gov. Follow the instructions for submitting comments. You can find this interim final rule by searching for its regulations.gov docket number, which is BIS-2020-0017.

All filers using the portal should use the name of the person or entity submitting comments as the name of their files, in accordance with the instructions below. Anyone submitting business confidential information should clearly identify the business confidential portion at the time of submission, file a statement justifying nondisclosure and referring to the specific legal authority claimed, and also provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” The “BC” and “P” should be followed by the name of the person or entity submitting the comments. Any submissions with file names that do not begin with a “BC” or “P” will be assumed to be public and will be made publicly available through http://www.regulations.gov.

FOR FURTHER INFORMATION CONTACT: Susan Kramer, Regulatory Policy Division, Bureau of Industry and Security, Department of Commerce. Phone: (202) 482-2440; Email: Susan.Kramer@bis.doc.gov.

SUPPLEMENTARY INFORMATION:

A. Background

1. Entity List Actions and the Temporary General License

Effective May 16, 2019, the Bureau of Industry and Security (BIS) added Huawei Technologies Co., Ltd. (Huawei) and sixty-eight of its non-U.S. affiliates to the Entity List (see 84 FR 22961 (May 21, 2019)). The Entity List (supplement no. 4 to part 744 of the Export Administration Regulations (EAR) (15 CFR parts 730-774)) identifies entities for which there is reasonable cause to believe, based on specific and articulable facts, that the entities have been involved, are involved, or pose a significant risk of being or becoming involved in activities contrary to the national security or foreign policy interests of the United States. The EAR impose additional license requirements on, and limit the availability of most license exceptions for, exports, reexports, and transfers (in-country) to entities on the Entity List. The license review policy for each listed entity is identified in the “License review policy” column on the Entity List, and the availability of license exceptions is described in the relevant Federal Register notice adding the entity to the Entity List. BIS places entities on the Entity List pursuant to part 744 (Control Policy: End-User and End-Use Based) and part 746 (Embargoes and Other Special Controls) of the EAR.

The addition of Huawei and its non-U.S. affiliates to the Entity List imposed a licensing requirement under the EAR regarding the export, reexport, and transfer (in-country) of most items subject to the EAR to the listed Huawei entities. On May 22, 2019 (84 FR 23468), BIS published a Temporary General License (TGL) which temporarily authorized engagement in certain transactions of items subject to the EAR with Huawei and its listed non-U.S. affiliates, including (but not limited to) engagement as necessary for development of 5G standards by a duly recognized standards body. Effective August 19, 2019 (84 FR 43493 (August 21, 2019)), an additional 46 non-U.S. affiliates of Huawei were placed on the Entity List with the same licensing requirements and TGL eligibility as Huawei and the initial sixty-eight non-U.S. affiliates. The TGL was also extended and amended (see 84 FR 43487 (August 21, 2019)) to remove the provision addressing engagement as necessary for development of 5G standards by a duly recognized standards body, on the basis of the BIS determination that existing provisions of the EAR sufficed for such engagement. In parallel with the publication of the August 21, 2019 rule, BIS posted a General Advisory Opinion on the BIS website, later rescinded and removed, that addressed the applicability of § 734.7 of the EAR (Published) (15 CFR 734.7) to certain types of releases to Huawei and its listed affiliates. TGL eligibility was subsequently continued through a series of extensions (see 84 FR 64018 (November 20, 2019), 85 FR 8722 (February 18, 2020), 85 FR 14416 (March 12, 2020) and 85 FR 29610 (May 18, 2020)). BIS allowed the TGL to expire on August 13, 2020, at which point the TGL was replaced with a more limited authorization to better protect U.S. national security and foreign policy interests, as implemented in a final rule effective August 17, 2020 (85 FR 51596, (August 20, 2020)). The August 17, 2020 rule also added thirty-eight additional non-U.S. affiliates of Huawei to the Entity List and revised General Prohibition Three (found in part 736 of the EAR).

2. Authorization for Release of Technology in the Context of Standards Organizations in the June 18, 2020 IFR

In response to the addition of Huawei and its non-U.S. affiliates to the Entity List, and the related amendments, BIS received questions regarding the applicability of the EAR in the context of standards setting or development. On June 18, 2020 (85 FR 36719), BIS published an interim final rule, Release of “Technology” to Certain Entities on the Entity List in the Context of Standards Organizations (the June 18th IFR) with a request for comment, to clarify and amend the scope of license requirements imposed by the Entity List listing specific to exchanges of certain EAR-controlled technology in a standards organization environment for Huawei and its specified affiliates.

The June 18th IFR removed certain license requirements imposed by the original Entity List listings by revising the Entity List to authorize certain releases of “technology” without a license within the context of contributing to the revision or development of a standard in a standards organization. As a result of these revisions, “technology” subject to the EAR and designated as EAR99 or controlled on the Commerce Control List (CCL) only for anti-terrorism (AT) reasons could be released to members of a standards organization, including Huawei, without a license, if released for the purpose of contributing to the revision or development of a standard. To effectuate this change, BIS modified the Entity List entries for Huawei and its listed non-U.S. affiliates by revising the text in the Licensing Requirement column for these entries to authorize the release of certain technology to Huawei and its affiliates on the Entity List without a license if such release is made for the purpose of contributing to the revision or development of a “standard” in a “standards organization.” The June 18th IFR also added definitions of “standard” and “standards organization” to § 772.1 of the EAR (Definitions). These definitions were derived from Office of Management and Budget (OMB) Circular A-119: Federal Participation in the Development and Use of Voluntary Consensus Standards and in Conformity Assessment Activities (81 FR 4673 (January 27, 2016)), available at https://www.nist.gov/system/files/revised_circular_a-119_as_of_01-22-2016.pdf.

3. Summary of Public Comments Received Regarding the June 18th IFR

The public comment period for the June 18th IFR regarding the release of technology to certain entities on the Entity List in the context of standards organizations closed on August 17, 2020. In response to the request for comments on the impact of the changes promulgated in the June 18th IFR, BIS received 22 relevant comments: one by an individual, three by companies, and 18 by associations and industry organizations, including several standards organizations. All commenters were generally supportive of the changes implemented in the June 18th IFR. Several commenters acknowledged that the June 18th IFR was intended, in part, to address the confusion created by the 5G exception from the TGL and noted that the changes in the June 18th IFR went beyond the 5G exception. However, the majority of the commenters advised that the June 18th IFR did not resolve the uncertainty of U.S. industry regarding participating in standards organizations that include Entity Listed entities; limiting the scope of the standards exemption to only Huawei and its non-U.S. affiliates and not to other listed entities has created an environment of uncertainty for industry and companies. They noted that additional actions were needed to maintain and “restore the ability of U.S.-based standards organizations to develop international standards and of these U.S. organizations and their U.S. members to participate fully in international standards development.”

BIS agrees with the commenters that additional actions are needed to protect U.S. technological leadership without discouraging, and indeed supporting and promoting, the full participation of U.S. actors in international standards development efforts. The national security threat that results from ceding U.S. participation and leadership in standards development and promulgation outweighs the risks related to the limited release of certain low-level technology and software to parties on the Entity List in the context of a “standards-related activity.” Participation in standards-related activities is imperative in allowing the United States to continue to participate and lead in global standards settings environments. BIS is making the following revisions to ensure that export controls and associated compliance concerns as they relate to the Entity List do not impede the leadership and participation of U.S. companies in standard activities. Any impediment to U.S. influence in standards development forums is a national security threat to the United States because not only does it limit U.S. leadership in standards development, but other countries are already racing to fill this vacuum with their own leadership and standards. In many cases, this ceding of U.S. leadership not only undermines democratic values and U.S. national security and foreign policy interests, but it also contributes to a potential future global standards environment that actually works to oppose U.S. interests.

B. Changes to Licensing Requirements in the Context of Specific Standards Activities

After review of the public comments from the June 18th IFR, consultation with the interagency, and in consideration of the U.S. national security and foreign policy interests at stake, this final rule amends the EAR to revise the standards authorization by:

(1) Clarifying the scope and application of standards activities covered by the authorization;

(2) Including EAR99 and AT-only controlled “software” in the scope of the authorization;

(3) Authorizing the release of specified “software” and “technology” when specifically for the “development,” “production,” and “use” of cryptographic functionality; and

(4) Applying the scope of the authorization to all entities listed on the Entity List.

To implement these changes, this interim final rule revises parts 744 and 772 of the EAR. Note that even when a license requirement does not apply, items that are “subject to the EAR” are still subject to recordkeeping and other applicable EAR requirements (see, e.g., § 762.1 of the EAR).

As set forth in § 744.11, the scope of the standards authorization is tied to the “release” of certain “technology” or “software” when such a release is for a “standards-related activity,” as defined in § 772.1 of the EAR, and where there is an intent for the resulting standard to be “published,” as defined in § 734.7 of the EAR. A “standards-related activity” includes activities required for the development, adoption or application of a standard, where there is an intent to publish the resulting standard. In order to qualify for the standards authorization, the following must be true:

(1) The technology or software must be designated as EAR99; controlled for AT reasons only on the CCL; or specifically for the “development,” “production,” and “use” of cryptographic functionality;

(2) The “release” of technology or software must be made in the context of a “standards-related activity;” and

(3) There must be intent to “publish” the resulting standard.

If there is no intent to publish the resulting standard, then even if the software or technology is designated EAR99, controlled for AT reasons only, or specifically for the “development,” “production,” and “use” of cryptographic functionality, a license would be required for the release of that technology or software to an entity on the Entity List (if required by the License requirement column for the entity on the Entity List).

As described in Note 1 to the definition of “technology,” “technology” may be `in any tangible or intangible form, such as written or oral communication.' Release of technology subject to the EAR outside of the “standards-related activity” would continue to require a license. Similarly, one-on-one (individual to individual) discussions that are not related to a “standards-related activity” would not be included in the scope of the authorization and a license would be required for such a release.

This authorization only overcomes the license requirement imposed as a result of an entity's listing on the Entity List. If you determine that other EAR licensing requirement apply, including any of the other end-use or end-user-based licensing requirements in part 744 of the EAR, you must comply with the terms of those licensing requirements

1. Changes to Part 744 Control Policy: End-User and End-Use Based

In this interim final rule, BIS is revising §§ 744.11 (License Requirements That Apply To Entities Acting Contrary To The National Security Or Foreign Policy Interests Of The United States) and 744.16 (Entity List), as well as supplement no. 4 to Part 744. The language regarding standards activities is added, as described below, to §§ 744.11 and 744.16 of the EAR. Additionally, BIS is removing the existing standards exception language from the “Licensing Requirement” column of the Entity List for all entries where it currently is stated and adding revised language to the introductory paragraph of supplement no. 4 to Part 744 as it now applies to all entities on the Entity List.

BIS is revising paragraph (a) in § 744.11 to specify that a license would not be required for certain “software” or “technology,” when released in the context of a “standards-related activity.”

In addition, BIS is revising paragraph (a) in § 744.16 by adding a sentence in the first paragraph to refer to the standards related authorization in § 744.11(a)(1). While three commenters suggested BIS amend § 744.16 of the EAR to state that the license requirement does not apply to standards development activity or standards-related activity, the same commenters also mentioned that “amending the [existing] individual Entity List entries would result in an extremely confusing structure for members of standards organizations to have to sort through to determine compliance.” BIS agrees that there is potential for confusion and compliance issues if all existing entries on the Entity List were modified. BIS also recognizes that many companies and individuals refer to the Consolidated Screening List when screening the parties to their transaction. The majority of existing entries on the Entity List reference § 744.11, and none reference § 744.16; therefore, to limit confusion, BIS is adding a reference to § 744.11(a)(1) in § 744.16(a).

Similarly, BIS is adding a cross reference to § 744.11 in the introductory paragraph of supplement no. 4 to Part 744. Additionally, BIS is modifying the text in the Licensing Requirement column for all of the entries of Huawei and its listed non-U.S. affiliates to remove the standards language and instead reference specific sections in Parts 736 and 744.

2. Changes to Part 772 Definitions of Terms

This interim final rule adds a definition for “standards-related activity” to § 772.1 of the EAR (Definitions) and removes the definitions for “standards” and “standards organizations.”

For purposes of the EAR, BIS is defining a “standards-related activity” to include the development, adoption or application of any standard, with the intent that the resulting standard will be “published” (as described in § 734.7). A standards-related activity would include an action taken for the purpose of developing, promulgating, revising, amending, reissuing, interpreting, implementing or otherwise maintaining or applying such a standard. For purposes of the EAR, a standard would be any document or other writing that provides, for common and repeated use, rules, guidelines, technical or other characteristics for products or related processes and production methods, with which compliance is not mandatory. As stated in the definition, there must be intent to publish the resulting standard.

C. Request for Additional Public Comments for This Interim Final Rule

BIS is requesting comment on the revisions promulgated in this interim final rule. Instructions for submission of comments, including comments that contain business confidential information, are found in the ADDRESSES section of this interim final rule. In particular, BIS seeks comments in the following areas:

Industries involved in standards development: BIS is requesting comments and additional information on whether the current scope of this authorization is adequate for the United States to retain its participation and lead in other areas that are important to the United States Government and industry, such as energy, artificial intelligence (AI), biotech, aerospace, and transportation. Does the current scope of the authorization hinder U.S. participation and leadership in standards development in industries where there is or may be participation by listed entities? Interested parties should provide specific examples of industries and commercial sectors which are or would be adversely affected by the current scope of the standards authorization as stated in this final rule.

Impact of other end use/end user controls: BIS is requesting comment on whether there are other provisions of the EAR that may negatively impact U.S. national security by limiting leadership and participation in standards-related activities, such as licensing requirements for other end use or end user-based controls listed in part 744 of the EAR. Commenters are asked to provide specific examples of how U.S. participation and/or leadership has (or will be) impacted by the limited application of this authorization to the license requirements in § 744.11.

Compliance burden: BIS is requesting comment from interested parties on industries and commercial sectors that are actively involved in standards development, including information on how they are affected by compliance burdens resulting from the changes promulgated in this and the previous rule.

International participation and scope of standards-related activities: BIS is requesting comment on whether the definition of “standards-related activities” promulgated in this interim final rule allows for full and open participation by U.S. companies in the development of standards. Are there aspects of the definition that should be better-defined or excluded?

D. Response to Comments Received Regarding the June 18th Standards Interim Final Rule

The summary and response to the comments BIS received from the June 18th IFR has been separated and discussed as the following two sections: (1) Policy Considerations and (2) Requests for expansion and clarification of scope and definitions.

1. Policy Considerations

As BIS acknowledged in the June 18th IFR, international standards serve as the building blocks for product development and help ensure the functionality, interoperability, and safety of products, both domestically and internationally. Many commenters stated that it is essential to U.S. technological leadership that U.S. companies are able to work with foreign companies and participate fully in standards development organizations. Many also noted that it is a national security concern when U.S. standards proposals are limited by non-participation of U.S. companies in standards development activities. U.S. regulations must ensure that U.S. standards proposals are given full consideration for adoption by the international standards community.

One commenter noted, and BIS agrees, that “enabling U.S.-based standards organizations to lead global collaboration and dialogue ultimately benefits U.S. industry and consumers.” As another commenter mentioned, the issue addressed in the Entity List additions is a serious one: “technology transfers to entities involved in activities that may be contrary to U.S. national security interests. However, they also noted that “by their very nature, open global standards organizations are engaged in activities that enable U.S. economic growth and do not involve technology transfers contrary to U.S. national security interests.”

a. U.S. Government Priorities and Unilateral Action

Three commenters referenced Executive Order 13859, Maintaining American Leadership in Artificial Intelligence (84 FR 3967 (Feb. 14, 2019)), the National Strategy for Secure 5G, and the Secure 5G and Beyond Act of 2020 (Pub. L. 116-129, 134 Stat. 223-227). As one commenter stated, “Active participation in global standards forums . . . directly aligns with the stated policy objectives of the U.S. government” but that “[t]he goals of these policies cannot be achieved if U.S. companies are limited and constrained in their ability to participate in and lead standards development activities.” Another commenter stated that the restrictions imposed by regulations that limit U.S. participation in standards development activities run counter to the purpose of the U.S. policies and legislation and are at odds with the Department of Commerce's commitment to “fully engage and advocate for U.S. technologies to become international standards.” BIS does not agree and notes that the U.S. Government recognizes the importance of protecting sensitive and leading-edge U.S. technology while ensuring that export controls do not unnecessarily limit U.S. participation or hinder U.S. leadership in international standards setting activities.

One commenter noted that a single country imposing unilateral requirements on global standard settings organizations sets a dangerous precedent: “the U.S. does not have the power to unilaterally compel an SSO [Standards Setting Organization] to change its rules, and . . . such actions exacerbate anti-U.S. sentiments already resulting from the difficulty of some SSO members to enter the U.S. to participate in SSO meetings. Normalizing such impositions invites retaliation by other countries at worst, and ongoing disruption at best.” Another commenter opined that Entity List considerations should not eclipse other national initiatives and that restricting certain foreign adversaries' access to American technology should not contradict other “national imperatives, including maintaining U.S. leadership in the global development of information and communications technologies (ICT).” BIS acknowledges and recognizes that the U.S. Government needs to apply U.S. export controls and maintain U.S. technological leadership, particularly in light of efforts by adversarial countries to coordinate, subsidize, and promote activities in international standards bodies for the benefit of their own enterprises and their own industry leadership. For this reason, BIS works closely with the Administration and other U.S. Government agencies as well as with the private sector, through its advisory groups and public comment process, to discuss and gather feedback on its regulatory actions.

b. Effects on U.S. Participation and Leadership in the Standards Arena

Seventeen commenters highlighted concerns regarding reduced U.S. participation and leadership in the standards arena caused by unilateral export control limits and the resulting industry fragmentation. As one commenter stated, “limitations on standards engagement vis-à-vis entities included on the Entity List create a very real risk of fragmentation in international standardization, increased compliance costs for industry, and reduced credibility of U.S.-based standards development organizations (SDOs) as open global standards organizations. Furthermore, such fragmentation can introduce security risks and vulnerabilities and affect both U.S. economic security and national security.” The same commenter also noted that it may be difficult for U.S. participants to know the company affiliation of all participants in international standards organizations: “In national body-based organizations, individuals are required to declare the country with which they are affiliated but are not required to disclose which organization employs them. In practice, some disclose their employer and some do not. Further, the disclosures are often not available to participants at the start of the meeting. This uncertainty could stifle U.S. participation in these standards organizations.” Another commenter noted that “Uncertainty regarding how the EAR impact standards setting is causing U.S companies to harbor reservations about participating fully in the standards development process, threatening to undermine U.S. technological leadership in multiple sectors.” According to several of the commenters, hesitancy to fully participate in standards discussions limits the U.S. role in global standards development. Reduced U.S. participation is encouraging other countries to develop their own national proprietary standards, which may result in a global environment with many competing standards instead of one global standard. For example, one commenter stated that this fragmentation could provide countries such as China with a reason to develop separate standards and exclude U.S. technology. Another stated, “If China moves to its own indigenous benchmark, most of the current influence by American companies will be lost because Chinese OEMs and the Chinese government . . . will specify all the testing details. This will create a significant disadvantage for American OEMs when competing with Chinese OEMs in China.” Another specifically noted that “The unilateral controls create incentives for Chinese organizations to (i) set up barriers to full participation by non-Chinese entities in their Chinese standards and (ii) create “Chinese-first” standards that, because of their huge market, require other countries to adopt or modify existing standards.” One commenter addressed the development of 5G standards, stating that if “international companies cannot participate in the development of Wi-Fi standards and certification . . . [there] is the potential [for] development of regional or fragmented certification programs, which will fracture the market and disadvantage consumers and companies alike.”

One commenter noted an additional issue regarding patents and intellectual property: “The creation of standards inevitably creates monopoly powers in the hands of the owners of standards essential patents. The time-honored way of avoiding the abuse of such rights is to bring together all interested owners of such rights in an effort to create standards that can be implemented under RAND licenses provided by participating member/patent owners.” RAND terms are “reasonable and non-discriminatory” voluntary licensing commitments that SSOs often request from patent owners when sharing information that may become part of a technical standard. As the commenter further stated, “where an SSO decides to exclude [certain members], these companies are given both the opportunity and incentive to “weaponize” any patent claims they own that become essential under the standards of that SSO.”

BIS recognizes that an environment of competing national standards or the exclusion of U.S. companies in international standards development is not advantageous to U.S. interests. As one commenter noted, “U.S. and international business interests can best be served by facilitating rather than restricting the participation of Huawei and its affiliates in vital 5G SSOs and other important standards development organizations.” Therefore, in this final rule, BIS is expanding the authorization for the release, in specific standards settings, of certain “technology” and “software” that is subject to the EAR to all entities on the Entity List. BIS understands that much of standards development occurs using such “technology” and “software;” therefore, this expansion should assist U.S. companies in maintaining a leadership position in the global standards community.

c. Standard Development Activities Subject to the EAR

Several commenters requested additional clarity with respect to standards development activities and the interpretation of § 734.7 of the EAR (Published). One commenter stated that “discussions with representatives of listed entities in the context of legitimate standards-setting activities are not [to] be subject to the EAR as they are made in the context of an open and transparent process with the intent to publish a standard.” Another commenter requested confirmation that unclassified “technology” or “software” is “published” and thus not subject to the EAR when made available to the public without restriction. Additionally, one commenter pointed out that “the Treasury Department's Office of Foreign Assets Control (OFAC) application of sanctions pursuant to the Specially Designated Nationals and Blocked Persons List (SDN List) specifically did not apply restrictions to participation in standards development activities because such interactions were public and intended to result in published standards.”

While the application of OFAC regulations is outside the scope of this rule, the EAR currently provide that “published” unclassified technology or software is not subject to the EAR, and therefore does not require a license to be exported, reexported or transferred (in country), even to an entity on the Entity List, provided the technology or software is available to the public without restriction as set forth in § 734.7 of the EAR. Many instances of the release of technology or software in the standards environment would be considered published and not subject to the EAR. Excluded from the scope of § 734.7 is “technology” or “software” that is not available to the public without restriction, as well as certain encryption software and certain firearm-related software or technology. Such technology or software remains subject to the EAR and requires a license for transactions involving entities on the Entity List. Therefore, BIS does not agree with the general interpretation that transfer or release of “technical data” within the context of international standards activities would necessarily be considered “Published” under § 734.7 and therefore not subject to the EAR in all circumstances.

d. Public Dialogue and Outreach

Commenters suggested a number of ways in which BIS could assist industry with the interpretation and application of the authorization in the context of standards organizations. Three commenters pointed to additional dialogue and engagement with the private sector. One commenter “strongly recommend(ed) extensive engagement with the private sector and with the National Institute of Standards and Technology (NIST), which has statutory responsibilities for coordinating federal government standards engagement and also federal engagement with the private sector . . . in order to develop smarter and more targeted policies vis-à-vis standards.” Another suggested that BIS “explore opportunities to educate the industry during the rollout of new rules pertaining to standards development”; “develop more formal mechanisms and processes for engaging with the U.S. technology companies that are active in the standards setting community”; and “take steps to educate the industry on its positions on interpretation of the IFR and what to expect in the future.” BIS appreciates these comments and will continue to identify additional ways to conduct industry and public outreach. BIS has been working with other government agencies, including NIST, on interpretations and EAR amendments specific to standards, and will continue to do so to ensure that the United States maintains a leadership position in standards development, while also preventing unauthorized foreign access to sensitive U.S. technology.

Two commenters also made suggestions regarding BIS's Technical Advisory Committees (TAC). One commenter suggested the establishment of a standards industry technical advisory committee focused on standards development and standards-development activities. The other commenter suggested modifying the charter for the Information Systems TAC (ISTAC) to enable it to gather and address specific inputs related to standards development and to recruit participants that can provide such inputs. BIS notes that the ISTAC is only one of BIS's six existing TACs and that the information systems sector is not the only industry sector involved in standards development. The representatives on BIS's TACs have diverse backgrounds in many different industries affected by the standards issue and are able to provide BIS with information on how their industries are involved in and impacted by standards development. Therefore, because BIS will continue to seek input from its TAC membership on this and related issues, the establishment of a standards-focused TAC is not warranted at this time.

2. Requests for Expansion and Clarification of Authorization From Public Comments

The remainder of the comments can be categorized into three main issues and suggested areas of expansion. BIS discusses the comments, suggestions, and as necessary, subsequent actions under three sections in the background of this rule: (A) Expand the EAR99 and AT-only authorization to all entities listed on the Entity List; (B) Expand the scope of authorization to additional “software” and “technology” that is widely available; and (C) Clarify and expand the definitions of “standards” and “standards organizations” used by BIS to more accurately reflect current industry practices and regular activities conducted by standards organizations.

(A) Expand the EAR99 and AT-Only Authorization to All Entities Listed on the Entity List

Almost all commenters recommended extending the authorization to share technology for the purpose of contributing to the development or revision of a standard to other entities on the Entity List. While one commenter suggested that the exemption be expanded to companies involved in artificial intelligence (AI), other commenters expressed that the standards-related authorization should apply to all entities on the Entity List. Eight commenters highlighted that, in addition to Huawei, there are other entities listed on the Entity List that are members of standards bodies or have historically participated in standards development activities, and should also be included in the authorization. As one commenter noted, “the unpublished technology that needs to be shared within standards organizations is generally not sensitive from an export control perspective [as it] is generally AT-only and EAR99 technology.” As another commenter stated, if the U.S. government has determined that “a standards-related carve-out for Huawei advances U.S. national security, foreign policy, and economic security objectives . . . then [allowing the] carve-out for all other listed entities would also advance the same objectives.” A third commenter noted that “Applying that same policy to standards activities that include any listed entities also will advance the U.S. government objective of ensuring U.S. technological leadership.”

Thirteen commenters expressed concern that the uncertainty regarding licensing requirements for currently listed entities as well as future additions to the Entity List creates an increased regulatory burden on U.S. industry. As one commenter stated, allowing all “entities [on the Entity List] to participate in standards setting activities also prevents unintended consequences that could irreparably harm U.S. industry and U.S. competitiveness.” Six commenters pointed to the increased regulatory and compliance burden of needing to constantly screen changes to the Entity List against standards organizations' membership lists. One commenter stated that the “current standards setting environment is plagued by uncertainty that U.S.-based standards bodies or U.S.-based participants will be unable to complete their important work when . . . a non-U.S. standards setting member [is added] to the Entity List.” Three other commenters highlighted that extending the authorization to all entities listed on the Entity List would level the playing field for U.S. standards participants; as one noted, “with an increasing number of non-US companies and multi-national, global organizations spanning multiple continents, creating technological advances in a range of connected technologies, it is critically important that their contributions be considered for the development of standards and specifications that can be used around the world . . . By extending the exemption to [all] companies on the Entity List, BIS will be leveling the playing field for U.S. companies because single standards developed with input from participants around the world will open more markets for U.S. companies and reduce artificial market barriers in other countries . . . The rapid pace of standards development, particularly for digital technologies is completely at odds with the time that is typically required for applying for exemptions [licenses] to work with organizations that are on the Entity List, and for the applications to be adjudicated. As these standards development activities routinely involve dozens of US companies, it is neither practical, nor reasonable to expect all of the participating US companies . . . to apply for such exemptions.” In summary, as one commenter noted, innovation and U.S. technological leadership is promoted by “clarity and simplicity regarding the Entity List and standards processes.”

BIS agrees with the commenters that the standards-related authorization should be applied to all entities on the Entity List. The uncertainty created by not knowing whether a BIS license is required to release low level technology for legitimate standards activities has undermined U.S. participation in these activities. The basis for the authorization for low level, non-sensitive, and widely available items to Huawei is also valid for all other entities on the Entity List. Extending a standards authorization to all listed entities on the Entity List will reduce the regulatory burden for industry and mitigate unintended consequences that could harm U.S. industry leadership and competitiveness in the telecommunications and information technology sector.

(B) Expand the Scope of the Authorization To Include Additional “Technology” and “Software”

(1) Expand the Scope of the Authorization To Include “Software” Designated EAR99 or Controlled for AT Reasons Only

Eleven commenters suggested that in addition to “technology,” “software” should be included in the authorization because the sharing of software is increasingly important in standards development. According to the commenters, software must be regularly released for standardized benchmarks and technology standards commonly include software code as part of the standards development process. As one commenter highlighted, “Standards bodies' participants exchange software executables and/or source code as part of their work.” Commenters asserted that while some software may be publicly available and therefore not subject to the EAR, software subject to the EAR and designated EAR99 or controlled for AT reasons only that is shared in the ordinary course of standards development activities should be authorized to the same extent that “technology” that is designated EAR99 or controlled for AT reasons only is authorized under the EAR. Commenters concurred that including “software” in the scope of the authorization will not harm national security.

BIS agrees with commenters that the scope of the authorization should be extended to include certain “software.” BIS appreciates the specific examples provided in the comments that reflect the need to share software (e.g., as part of developing codecs, reference software implemented as part of the standard). One commenter noted that “software allows members to incorporate ideas from many into a design the standards body is developing so that the other members can see how the idea would work. Such software is not “production code,” i.e., that which is needed to produce the product. Rather, it is that which is designed to show performance aspects of a proposed standard.” BIS acknowledges that the release of certain software is a usual, customary, and necessary part of standards activities.

In response to the public comments, BIS is revising the EAR to expand the scope of the authorization to include “software” subject to the EAR and designated as EAR99 or controlled for AT reasons only, or specifically for the “development,” “production,” and “use” of cryptographic functionality, when such “software” is released in the context of a “standards-related activity” (see 772.1 of the EAR—Definitions).

(2) Expand the Scope of the Authorization to “Technology” and “Software” Beyond EAR99 and AT-Only Controlled Items

BIS received fourteen comments requesting that the authorization be extended beyond EAR99 and AT-only controlled “technology” to include additional “technology” and “software.” One commenter suggested that technology “ranging from hardware and chips to software and source code [should be added] to the exemption for standards processes.” Another commenter mentioned that “the EAR should not interfere with U.S. leadership in standards organizations, except with respect to truly sensitive military and dual-use technologies that are controlled for release to foreign person[s] generally.” Six commenters noted that some standards activities related to encryption, so the authorization should be expanded to include information security software and technology classified under ECCNs 5D002 and 5E002. One commenter also noted that, “(i)nformation security is a critical element of 5G technology. 5G poses an elevated security threat . . . Information security must be incorporated from the outset into 5G standards, in order to ensure that the expected benefits of 5G networks can be achieved and the attendant risks minimized. Adding information security technology classified under ECCN 5E002 and related software classified under ECCN 5D002 to the list of technologies that may be shared in the context of standards organizations is the bare minimum required in order to permit standards organizations to address the elevated threat presented by 5G networks.”

BIS recognizes that neither an environment of competing national standards nor the exclusion of U.S. companies in international standards development is advantageous to U.S. interests. In the case of software and technology that is designated EAR99, controlled for AT reasons only, BIS is allowing the release, without a license, of software and technology that is already widely available on the global market. In addition, BIS agrees with commenters that information security is an important part of standards work, including in the development of 5G standards. BIS is allowing for the release in standards environments of software and technology specifically for the “development,” “production,” and “use” of cryptographic functionality; without proper standardization in encryption functionality, vulnerabilities and issues in 5G security will pose a national security threat to the United States.

Therefore, in this final rule, BIS is revising the authorization for the release, in “standards related activities,” to include specific “technology” and “software” that is widely available and is subject to the EAR, to all entities on the Entity List. The authorization is revised to include software that is designated EAR99, software that is controlled for AT reasons only, and software that is classified only in ECCN subparagraphs 5D002.b and 5D002.c.1 (only for equipment specified in ECCNs 5A002.a and 5A002.c). The authorization continues to include the release of technology that is designated EAR99, or controlled for AT reasons only, and is revised to include technology classified under ECCN 5E002, only for equipment specified in ECCN subparagraphs 5A002.a, .b and .c, and technology classified under ECCN 5E002 for software controlled under ECCN 5D002.b and .c.1, (only for equipment specified in ECCN subparagraphs 5A002.a and .c) when the release is for a “standards-related activity” and specifically for the “development,” “production,” and “use” of cryptographic functionality.

These specific ECCN subparagraphs that are included in the expanded authorization allow the release of software and technology for functionality but not for other types of information security functions that remain controlled in Category 5 Part 2 of the CCL. Included in the expanded authorization are software and technology that encrypts and decrypts data that is regularly used in the development and production of many commonplace products that use cryptography (e.g., smart phones, printers/scanners; toys; etc.). The specific software and technology authorized include only cryptographic functions needed to assist the development of security in a 5G network, not to develop 5G products or capacity. No other cryptanalytic items or products that use cryptographic techniques are included in the authorization. BIS understands that much standards development occurs using this widely available “software” and “technology” covered by the expanded authorization and this should assist U.S. companies in maintaining a leadership position in the global standards community.

(C) Clarify and Expand the Definitions of “Standards” and “Standards Organizations” Used by BIS To Reflect Current Industry Practices

Eighteen commenters requested additional clarification or expansion of the “standards” and “standards organizations” definitions added to the EAR in the June 18th IFR. The general consensus of the comments was that the “standards” and “standards organizations” definitions derived from the Office of Management and Budget (OMB) Circular A-119 were not the appropriate definitions for this context and created uncertainty and questions regarding which U.S. companies and organizations in the standards setting community are subject to the licensing requirements. As one commenter stated, OMB Circular A-119 “emphasizes the role of the U.S. government in the development and use of standards” while the exception from the license requirement in the June 18th IFR is “intended to reduce barriers for U.S. companies in their participation and leadership in the development of standards.”

(1) Comments Regarding “Standards”

BIS received thirteen comments regarding the OMB Circular A-119 definition of “standards.” Eight commenters requested additional clarification or confirmation regarding the “standards” definition while six commenters suggested revisions and expansions to the definition.

(a) Clarification and Confirmation of Definition

A number of commenters requested confirmation from BIS that certification and conformance activities were included in the definition of “standards.” One commenter noted that the OMB Circular mentions that: “Certification programs are conformity assessment activities . . . The definition of `conformity assessment' in the OMB Circular states that certification, as well as the accreditations of the competence of these activities, is included . . . [In addition], OMB Circular A-119 recognizes that conformity assessment activities are part of, and integral to, much of standards development . . . Finally, federal law explicitly recognizes standards development activities to include conformity assessment activities. The National Cooperative Research and Production Act of 1993 uses the same definition of a `voluntary consensus standard' used in OMB Circular A-119 and further defines a `standards development activity.’ ”

Another commenter requested confirmation that “the scope of standards development activities permitted by the Final Rule includes any action taken by an SDO for the purpose of developing, promulgating, revising, reissuing, interpreting, or otherwise maintaining a voluntary consensus standard, including standard conformity testing and assessment activities.”

(b) Revision and Expansion of Definition

One commenter requested that “standardized benchmarks” be included as part of the standards definition and defined as “measurement software developed by an organization of relevant industry companies to evaluate the performance or energy consumption of a computing system. Without such an amendment, American companies will be excluded from the development of standardized benchmarks which are critical for selling computers.”

Several commenters referenced the Standards Development Organization Advancement Act of 2004 (SDOAA) (15 U.S.C. 4301-4306) and suggested the addition of and adherence to its “standards development activity” definition, which is commonly accepted by industry and extends beyond production to include post-production activities. One commenter stated that the “EAR defines “development” to include all stages prior to an item's being in “production,” e.g., no longer being modified. However, “standards development activities” are clearly defined in U.S. standards law (the SDOAA) as including activities [in] all stages of a standard's promulgation, such as its maintenance and conformity assessment.” A separate comment noted that even applying a restrictive (but definitive) EAR definition of “development” to the standards carve-out would resolve uncertainty about whether ordinary promulgation and standards related activities are within the scope of the authorization.

Several commenters suggested that BIS define “standards-related activities” by referencing the existing definition from the Trade Agreements Act (TAA) of 1979 (19 U.S.C. 2501-2582). Several commenters also requested guidance on whether “standards” include important ancillary aspects of a standard, such as reference implementations, interoperability testing, conformance testing results, and other related technology development that helps to foster adoption, implementation, and improvement of the underlying standard. The commenters suggested that if these actions are not considered “standards” under the June 18th definition, the definition should be “broadened to apply to encompass these activities of standards bodies that facilitate widespread adoption of technical standards.” The comments also emphasized that allowing the full set of activities undertaken by a standards-setting body would enable U.S. companies to lead throughout the lifecycle of standards development.

(2) Comments Regarding “Standards Organization”

BIS received twelve comments regarding the OMB Circular A-119 definition of “Standards Organization.” As one commenter noted, “uncertainty regarding whether a standards organization meets the characteristics of a “standards organization” as defined [by Circular A-119] could cause U.S. companies to limit, withdraw, or delay their involvement in standards organizations . . . Participation rates in standards development is a key factor in the success and adoption of those standards.” Seven comments requested additional clarification or confirmation regarding BIS's “standards organization” definition while five comments included suggested revisions and expansions to the definition.

A number of comments requested clarity or confirmation regarding what types of organizations met the equivalent “voluntary consensus standards body” (VCSB) definition as defined by OMB Circular A-119. One commenter requested clarification as to whether the June 18th IFR applies only to international voluntary consensus standards bodies or “if it also applies to national standard setting organizations. OMB Circular No. A-119, which the rule refers to, notes that standard setting organizations are both domestic and international, although the language of the rule seems to contemplate the rule applying to international standard setting.” Four commenters requested that BIS confirm that consortia or alliances are considered “standards organizations” for the purposes of the June 18th IFR. Two commenters requested confirmation that entities that develop certification programs would also be considered VCSBs. One commenter requested further clarification on SSO's and whether U.S. persons are permitted to work with Huawei and its affiliates in standards development activities or not.

A number of commenters suggested revisions to BIS's definition of “standards organizations.” Several commenters opined that OMB Circular No. A-119 and the definition of VCSBs is not a suitable definition for purposes of the EAR. One commenter recommended amending the definition to remove the “appeals process” required by OMB Circular No. A-119. Another commenter suggested that paid membership model organizations not be excluded from the scope of the VSCB definition. One commenter suggested that BIS should state that “U.S. companies may safely participate in any SSO formed with the intention of creating global standards and which admits all interested parties as members on a non-discriminatory basis. Failing that, providing an SSO-specific exception referencing only the Openness and Consensus elements of the VCSB definition, tailored to ICT SSO realities, would provide a next-best solution.” The same commenter endorsed the use of “industry-accepted objective criteria, such as the ISO/IEC JTC-1 PAS Submitter process as well as other industry-established criteria or processes that would recognize legitimate standards organizations as qualifying as “standards organizations”.”

(3) Removal of Definitions for “Standards” and “Standards Organization;” Addition of Definition for “Standards-Related Activity”

BIS appreciates the insight and suggestions provided in the public comments to the June 18th IFR regarding the definitions, as well as the explanations of the issues that companies face on a practical level with regard to standards and information sharing in the context of standards organizations. BIS understands and acknowledges that the “standards” and “standards organizations” terms, as defined by the OMB Circular No. A-119, do not adequately address the breadth of activities and issues that companies run into while participating in standards organizations.

Therefore, based on this input derived from public comments and interagency discussions, this final rule removes the definitions of “standards” and “standards organization” from the EAR. BIS considered the definitions found in the TAA and SDOAA and incorporated the relevant and applicable elements of the definitions into a “standards-related activity” definition. BIS is adding this term to § 772.1 of the EAR (Definitions). The scope of the standards authorization now reflects activities as defined and in the context of a “standards-related activity.” Use of the “standards-related activity” definition appropriately focuses export controls on activities that are important to United States technological leadership rather than the type of organization that performs them. Standards activities must not be constrained by defining the organization or product of the deliberations in such a way that full participation in the intended activities cannot be achieved.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. As set forth in Section 1768 of ECRA, all delegations, rules, regulations, orders, determinations, licenses, or other forms of administrative action that were made, issued, conducted, or allowed to become effective under the Export Administration Act of 1979 (previously, 50 U.S.C. 4601 et seq.) (as in effect prior to August 13, 2018 and as continued in effect pursuant to the International Emergency Economic Powers Act (50 U.S.C. 1701 et seq.)) or the Export Administration Regulations, and were in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This interim final rule has been designated as significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This interim final rule involves the collection currently approved by OMB under the BIS control number: Simplified Network Application Processing System (control number 0694-0088), which includes, among other things, license applications. The information collection under control number 0694-0088, carries a burden estimate of 29.4 minutes for a manual or electronic submission for a total burden estimate of 31,835 hours. Total burden hours associated with the PRA and OMB control number 0694-0088 are not expected to increase as a result of this rule.

3. This rule does not contain policies with Federalism implications as that term is defined in Executive Order 13132.

4. Pursuant to section 1762 of ECRA, this action is exempt from the Administrative Procedure Act (5 U.S.C. 553) requirements, including prior notice and the opportunity for public comment.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects

15 CFR Part 744

Exports, Reporting and recordkeeping requirements, Terrorism

15 CFR Part 772

Exports.

Accordingly, parts 744 and 772 of the Export Administration Regulations (15 CFR parts 730 through 774) are amended as follows:

PART 744—CONTROL POLICY: END-USER AND END-USE BASED

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Section 744.11 is amended by revising paragraph (a) introductory text and paragraph (a)(1) to read as follows:

§ 744.11 License requirements that apply to entities acting contrary to the national security or foreign policy interests of the United States.

* * * * *

(a) License requirement, availability of license exceptions, and license application review policy. A license is required, to the extent specified on the Entity List, to export, reexport, or transfer (in-country) any item subject to the EAR when an entity that is listed on the Entity List is a party to the transaction as described in § 748.5(c) through(f) of the EAR unless otherwise authorized or excluded in this section. License exceptions may not be used unless authorized in the Entity List entry for the entity that is party to the transaction. Applications for licenses required by this section will be evaluated as stated in the Entity List entry for the entity that is party to the transaction, in addition to any other applicable review policy stated elsewhere in the EAR.

(1) Standards Related Activity. A license is not required for the release of “technology” or “software” designated EAR99 or controlled on the CCL for anti-terrorism reasons only, when such a release is for a “standards-related activity.” In addition, a license is not required for the release of the following ECCN “items” level paragraphs of “technology” or “software” specifically for the “development,” “production,” or “use” of cryptographic functionality when such a release is for a “standards-related activity:” “software” that is classified under ECCN 5D002.b or 5D002.c.1 (for equipment specified in ECCN 5A002.a and 5A002.c only); “technology” that is classified under ECCN 5E002 (for equipment specified in ECCN 5A002.a, .b and .c); and “technology” for software controlled under ECCN 5D002.b or .c.1 (for equipment specified in ECCN 5A002.a and .c only).

* * * * *

3. Section 744.16 is amended by revising paragraph (a) to read as follows:

§ 744.16 ENTITY LIST

* * * * *

(a) License requirements. In addition to the license requirements for items specified on the CCL, you may not, without a license from BIS, export, reexport, or transfer (in-country) any items included in the License Requirement column of an entity's entry on the Entity List (supplement no. 4 to this part) when that entity is a party to a transaction as described in § 748.5(c) through (f) of the EAR. The specific license requirement for each listed entity is identified in the license requirement column on the Entity List in supplement no. 4 to this part. A license is not required for the release of certain “technology” or “software” when such a release is for a “standards-related activity,” as described in § 744.11(a)(1) and § 772.1 of the EAR.

4. Supplement No. 4 to part 744 is amended by revising the introductory text and the following entries:

a. Under Argentina, “Huawei Cloud Argentina” and “Huawei Tech Investment Co., Ltd. Argentina”;

b. Under Australia, “Huawei Technologies (Australia) Pty Ltd.”;

c. Under Bahrain, “Huawei Technologies Bahrain”;

d. Under Belarus, “Bel Huawei Technologies LLC”;

e. Under Belgium, “Huawei Technologies Research & Development Belgium NV”;

f. Under Bolivia, “Huawei Technologies (Bolivia) S.R.L.”;

g. Under Brazil, “Huawei Cloud Brazil” and “Huawei do Brasil Telecomunicacões Ltda”;

h. Under Burma, “Huawei Technologies (Yangon) Co., Ltd.”;

i. Under Canada, “Huawei Technologies Canada Co., Ltd”;

j. Under Chile, “Huawei Chile S.A.” and “Huawei Cloud Chile”;

k. Under China, “Beijing Huawei Digital Technologies Co., Ltd.”, “Chengdu Huawei High-Tech Investment Co., Ltd.”, “Chengdu Huawei Technologies Co., Ltd.”, “Dongguan Huawei Service Co., Ltd.”, “Dongguan Lvyuan Industry Investment Co., Ltd.”, “Gui'an New District Huawei Investment Co., Ltd.”, “Hangzhou Huawei Digital Technology Co., Ltd.”, “HiSilicon Optoelectronics Co., Ltd.”, “HiSilicon Technologies Co., Ltd (HiSilicon)”, “HiSilicon Tech (Suzhou) Co., Ltd.”, “Hua Ying Management Co. Limited”, “Huawei Cloud Beijing”, “Huawei Cloud Computing Technology”, “Huawei Cloud Dalian”, “Huawei Cloud Guangzhou”, “Huawei Cloud Guiyang”, “Huawei Cloud Hong Kong”, “Huawei Cloud Shanghai”, “Huawei Cloud Shenzhen”, “Huawei Device Co., Ltd.”, “Huawei Device (Dongguan) Co., Ltd.”, “Huawei Device (Hong Kong) Co., Limited.”, “Huawei Device (Shenzhen) Co., Ltd.”, “Huawei International Co., Limited”, “Huawei Machine Co., Ltd.”, “Huawei OpenLab Suzhou”, “Huawei Software Technologies Co., Ltd.”, “Huawei Tech. Investment Co., Limited”, “Huawei Technical Service Co., Ltd.”, “Huawei Technologies Co., Ltd.”,, “Huawei Technologies Service Co., Ltd.”, “Huawei Training (Dongguan) Co., Ltd.”, “Huayi internet Information Service Co., Ltd.”, “Hui Tong Business Ltd.,”, “North Huawei Communication Technology Co., Ltd.”, “Shanghai Haisi Technology Co., Ltd.”, “Shanghai HiSilicon Technologies Co., Ltd.,”, “Shanghai Mossel Trade Co., Ltd.”, “Shenzhen HiSilicon Technologies Co., Electrical Research Center”, “Shenzhen Huawei Technical Services Co., Ltd.”, “Shenzhen Huawei Terminal Commercial Co., Ltd.”, “Shenzhen Huawei Training School Co., Ltd.”, “Shenzhen Huayi Loan Small Loan Co., Ltd.”, “Shenzhen Legrit Technology Co., Ltd.”, “Shenzhen Smartcom Business Co., Ltd.”, “Smartcom (Hong Kong) Co., Limited”, “Suzhou Huawei Investment Co., Ltd.”, “Wuhan Huawei Investment Co., Ltd.”, “Wulanchabu Huawei Cloud Computing Technology”, “Xi'an Huawei Technologies Co., Ltd.”, and “Xi'an Ruixin Investment Co., Ltd.”;

l. Under Costa Rica, “Huawei Technologies Costa Rica SA”;

m. Under Cuba, “Huawei Cuba”;

n. Under Denmark, “Huawei Denmark”;

o. Under Egypt, “Huawei OpenLab Cairo” and “Huawei Technology”;

p. Under France, “Huawei Cloud France”, “Huawei France” and “Huawei OpenLab Paris”;

q. Under Germany, “Huawei Cloud Berlin”, “Huawei OpenLab Munich”, “Huawei Technologies Deutschland GmbH” and “Huawei Technologies Dusseldorf GmbH;

r. Under India, “Huawei OpenLab Delhi” and “Huawei Technologies India Private Limited”;

s. Under Indonesia, “Huawei Tech Investment, PT”;

t. Under Israel, “Toga Networks”;

u. Under Italy, “Huawei Italia”, and “Huawei Milan Research Institute”;

v. Under Jamaica, “Huawei Technologies Jamaica Company Limited”;

w. Under Japan, “Huawei Technologies Japan K.K.”;

x. Under Jordan, “Huawei Technologies Investment Co. Ltd.”;

y. Under Kazakhstan, “Huawei Technologies LLC Kazakhstan”;

z. Under Lebanon, “Huawei Technologies Lebanon”;

aa. Under Madagascar, “Huawei Technologies Madagascar Sarl”;

bb. Under Mexico, “Huawei Cloud Mexico”, “Huawei OpenLab Mexico City”, and “Huawei Technologies De Mexico S.A.”;

cc. Under Morocco, “Huawei Technologies Morroco”;

dd. Under Netherlands, “Huawei Cloud Netherlands” and “Huawei Technologies Coöperatief U.A.”;

ee. Under New Zealand, “Huawei Technologies (New Zealand) Company Limited”;

ff. Under Oman, “Huawei Tech Investment Oman LLC”;

gg. Under Pakistan, “Huawei Technologies Pakistan (Private) Limited”;

hh. Under Panama, “Huawei Technologies Cr Panama S.A”;

ii. Under Paraguay, “Huawei Technologies Paraguay S.A.”;

jj. Under Peru “Huawei Cloud Peru”;

kk. Under Portugal, “Huawei Technology Portugal”;

ll. Under Qatar, “Huawei Tech Investment Limited”;

mm. Under Romania, “Huawei Technologies Romania Co., Ltd.”;

nn. Under Russia, “Huawei Cloud Russia”, “Huawei OpenLab Moscow”, and “Huawei Russia”;

oo. Under Singapore, “Huawei Cloud Singapore”, “Huawei International Pte. Ltd.”, and “Huawei OpenLab Singapore”;

pp. Under South Africa, “Huawei Cloud South Africa”, “Huawei OpenLab Johannesburg”, and “Huawei Technologies South Africa Pty Ltd.”;

qq. Under Sri Lanka, “Huawei Technologies Lanka Company (Private) Limited”;

rr. Under Sweden, “Huawei Sweden”;

ss. Under Switzerland, “Huawei Cloud Switzerland” and “Huawei Technologies Switzerland AG”;

tt. Under Taiwan, “Xunwei Technologies Co., Ltd.”;

uu. Under Thailand, “Huawei Cloud Thailand”, “Huawei OpenLab Bangkok”, and “Huawei Technologies (Thailand) Co.”;

vv. Under Turkey, “Huawei OpenLab Istanbul”;

ww. Under United Arab Emirates “Huawei OpenLab Dubai”;

xx. Under United Kingdom, “Centre for Integrated Photonics Ltd.”, “Huawei Global Finance (UK) Limited”, “Huawei Technologies R&D UK”, “Huawei Technologies (UK) Co., Ltd.”, “Proven Glory”, and “Proven Honour”; and

uu. Under Vietnam, “Huawei Technologies (Vietnam) Company Limited” and “Huawei Technology Co. Ltd.”.

The revisions read as follows:

Supplement No. 4 to Part 744—Entity List

This Supplement lists certain entities subject to license requirements for specified items under this parts 744 and 746 of the EAR. License requirements for these entities include exports, reexports, and transfers (in-country) unless otherwise stated. A license is required, to the extent specified on the Entity List, to export, reexport, or transfer (in-country) any item subject to the EAR when an entity that is listed on the Entity List is a party to the transaction as described in § 748.5(c) through (f) of the EAR. See § 744.11 for licensing requirements in the context of a “standards-related activity”. This list of entities is revised and updated on a periodic basis in this Supplement by adding new or amended notifications and deleting notifications no longer in effect.

Country | Entity | License requirement | License review policy | Federal Register citation
* * * * * * *
ARGENTINA | Huawei Cloud Argentina, Buenos Aires, Argentina. | For all items subject to the EAR, see §§ 734.9(e) ¹ and 744.11 of the EAR ² | Presumption of denial | 85 FR 51603, 8/20/20. 87 FR 6026, 2/3/22. 87 FR [INSERT FR PAGE NUMBER AND 9/9/22].
| Huawei Tech Investment Co., Ltd., Argentina, Av. Leandro N. Alem 815, C1054 CABA, Argentina. | For all items subject to the EAR, see §§ 734.9(e) ¹ and 744.11 of the EAR ² | Presumption of denial | 84 FR 43495, 8/21/19. 85 FR 29852, 5/19/20. 85 FR 36720, 6/18/20. 85 FR 51603, 8/20/20. 87 FR 6026, 2/3/22. 87 FR [INSERT FR PAGE NUMBER AND 9/9/22].
* * * * * * *
AUSTRALIA | Huawei Technologies (Australia) Pty Ltd., L6 799 Pacific Hwy, Chatswood, New South Wales, 2067, Australia. | For all items subject to the EAR, see §§ 734.9(e) ¹ and 744.11 of the EAR ² | Presumption of denial | 84 FR 43495, 8/21/19. 85 FR 29852, 5/19/20. 85 FR 36720, 6/18/20. 85 FR 51603, 8/20/20. 87 FR 6026, 2/3/22. 87 FR [INSERT FR PAGE NUMBER AND 9/9/22].
* * * * * * *
BAHRAIN | Huawei Technologies Bahrain, Building 647 2811 Road 2811, Block 428, Muharraq, Bahrain. | For all items subject to the EAR, see §§ 734.9(e) ¹ and 744.11 of the EAR ² | Presumption of denial | 84 FR 43495, 8/21/19. 85 FR 29852, 5/19/20. 85 FR 36720, 6/18/20. 85 FR 51603, 8/20/20. 87 FR 6026, 2/3/22. 87 FR [INSERT FR PAGE NUMBER AND 9/9/22].
| * * * * * *
BELARUS | Bel Huawei Technologies LLC, a.k.a., the following one alias, —BellHuawei Technologies LLC. 5 Dzerzhinsky Ave., Minsk, 220036, Belarus. | For all items subject to the EAR, see §§ 734.9(e) ¹ and 744.11 of the EAR ² | Presumption of denial | 84 FR 43495, 8/21/19. 85 FR 29852, 5/19/20. 85 FR 36720, 6/18/20. 85 FR 51603, 8/20/20. 87 FR 6026, 2/3/22. 87 FR [INSERT FR PAGE NUMBER AND 9/9/22].
| * * * * * *
BELGIUM | Huawei Technologies Research & Development Belgium NV, Technologiepark 19, 9052 Zwijnaarde Belgium. | For all items subject to the EAR, see §§ 734.9(e) ¹ and 744.11 of the EAR ² | Presumption of denial | 84 FR 22963, 5/21/19. 84 FR 43495, 8/21/19. 85 FR 29852, 5/19/20. 85 FR 36720, 6/18/20. 85 FR 51603, 8/20/20. 87 FR 6026, 2/3/22. 87 FR [INSERT FR PAGE NUMBER AND 9/9/22].
| * * * * * *
* * * * * * *
BOLIVIA | Huawei Technologies (Bolivia) S.R.L., La Paz, Bolivia. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
BRAZIL | Huawei Cloud Brazil, Sau Paulo, Brazil. | For all items subject to the EAR, see §§ 734.9(e) ¹ and 744.11 of the EAR ² | Presumption of denial | 85 FR 51603, 8/20/20. 87 FR 6026, 2/3/22. 87 FR 8182, 2/14/22. 87 FR 21012, 4/11/22. 87 FR [INSERT FR PAGE NUMBER AND 9/9/22].
| Huawei do Brasil Telecomunicacões Ltda, Sao Paulo, Brazil; and Av. Jerome Case, 2600, Sorocaba—SP, 18087-220, Brazil. | For all items subject to the EAR, see §§ 734.9(e) ¹ and 744.11 of the EAR ² | Presumption of denial | 84 FR 22963, 5/21/19. 84 FR 43495, 8/21/19. 85 FR 29852, 5/19/20. 85 FR 36720, 6/18/20. 85 FR 51603, 8/20/20. 87 FR 6026, 2/3/22. 87 FR [INSERT FR PAGE NUMBER AND 9/9/22].
* * * * * * *
BURMA | Huawei Technologies (Yangon) Co., Ltd., Yangon, Burma. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
CANADA | * * * * * *
| Huawei Technologies Canada Co., Ltd., Markham, ON, Canada. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
CHILE | Huawei Chile S.A., Santiago, Chile. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| Huawei Cloud Chile, Santiago, Chile. | For all items subject to the EAR, see §§ 734.9(e) ¹ and 744.11 of the EAR ² | Presumption of denial | 85 FR 51603, 8/20/20. 87 FR 6026, 2/3/22. 87 FR [INSERT FR PAGE NUMBER AND 9/9/22].
CHINA, PEOPLE'S REPUBLIC OF | * * * * * *
| Beijing Huawei Digital Technologies Co., Ltd., Beijing, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
| Chengdu Huawei High-Tech Investment Co., Ltd., Chengdu, Sichuan, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| Chengdu Huawei Technologies Co., Ltd., Chengdu, Sichuan, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
| Dongguan Huawei Service Co., Ltd., Dongguan, Guangdong, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| Dongguan Lvyuan Industry Investment Co., Ltd., Dongguan, Guangdong, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
| Gui'an New District Huawei Investment Co., Ltd., Guiyang, Guizhou, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
| Hangzhou Huawei Digital Technology Co., Ltd., Hangzhou, Zhejiang, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
| HiSilicon Optoelectronics Co., Ltd., Wuhan, Hubei, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| HiSilicon Technologies Co., Ltd (HiSilicon), Bantian Longgang District, Shenzhen, 518129, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| HiSilicon Tech (Suzhou) Co., Ltd., Suzhou, Jiangsu, China. | For all items subject to the EAR, see §§ 734.9(e) ¹ and 744.11 of the EAR ² | Presumption of denial | 84 FR 22963, 5/21/19. 85 FR 29852, 5/19/20. 85 FR 36720, 6/18/20. 85 FR 51603, 8/20/20. 87 FR 6026, 2/3/22. 87 FR [INSERT FR PAGE NUMBER AND 9/9/22].
| * * * * * *
| Hua Ying Management Co. Limited, Tsim Sha Tsui, Kowloon, Hong Kong. | For all items subject to the EAR, see §§ 734.9(e) ¹ and 744.11 of the EAR ² | Presumption of denial | 84 FR 22963, 5/21/19. 85 FR 29853, 5/19/20. 85 FR 36720, 6/18/20. 85 FR 51603, 8/20/20. 85 FR 83769, 12/23/20. 87 FR 6026, 2/3/22. 87 FR [INSERT FR PAGE NUMBER AND 9/9/22].
| Huawei Cloud Beijing, Beijing, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Cloud Computing Technology, Huawei Cloud Data Center, Xinggong Road, Qianzhong Avenue, Gui'an New District, Guizhou Province, China; and Huawei Cloud Data Center, Jiaotianfu Road, Jinma Avenue, Gui'an New District, Guizhou Province, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Cloud Dalian, Dalian, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Cloud Guangzhou, Guangzhou, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Cloud Guiyang, Guiyang, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Cloud Hong Kong, Hong Kong. | For all items subject to the EAR, see §§ 734.9(e) ¹ and 744.11 of the EAR ² | Presumption of denial | 85 FR 51603, 8/20/20. 85 FR 52901, 8/27/20. 86 FR 12531, 3/4/21. 87 FR 6026, 2/3/22. 87 FR [INSERT FR PAGE NUMBER AND 9/9/22].
| Huawei Cloud Shanghai, Shanghai, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Cloud Shenzhen, Shenzhen, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Device Co., Ltd., a.k.a., the following two aliases: —Huawei Device; and —Songshan Lake Southern Factory. Dongguan, Guangdong, China and No. 2 Xincheng Avenue, Songshan Lake Road, Dongguan City, Guangdong, China; and Songshan Lake Base, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Device (Dongguan) Co., Ltd., Dongguan, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Device (Hong Kong) Co., Limited, Tsim Sha Tsui, Kowloon, Hong Kong. | For all items subject to the EAR, see §§ 734.9(e) ¹ and 744.11 of the EAR ² | Presumption of denial | 84 FR 22963, 5/21/19. 85 FR 29853, 5/19/20. 85 FR 36720, 6/18/20. 85 FR 51603, 8/20/20. 85 FR 83769, 12/23/20. 87 FR 6026, 2/3/22. 87 FR [INSERT FR PAGE NUMBER AND 9/9/22].
| Huawei Device (Shenzhen) Co., Ltd., Shenzhen, Guangdong, China and Building 2, Zone B, Huawei Base, Bantian, Longgang District, Shenzhen, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei International Co., Limited, Hong Kong. | For all items subject to the EAR, see §§ 734.9(e) ¹ and 744.11 of the EAR ² | Presumption of denial | 84 FR 22963, 5/21/19. 85 FR 29853, 5/19/20. 85 FR 36720, 6/18/20. 85 FR 51603, 8/20/20. 85 FR 83769, 12/23/20. 87 FR 6026, 2/3/22. 87 FR [INSERT FR PAGE NUMBER AND 9/9/22].
| Huawei Machine Co., Ltd., Dongguan, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei OpenLab Suzhou, a.k.a., the following one alias: —Huawei Suzhou OpenLab, Suzhou, China. | For all items subject to the EAR, see §§ 734.9(e) ¹ and 744.11 of the EAR ² | Presumption of denial | 85 FR 51603, 8/20/20. 87 FR 6026, 2/3/22. 87 FR [INSERT FR PAGE NUMBER AND 9/9/22].
| Huawei Software Technologies Co., Ltd., Nanjing, Jiangsu, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Tech. Investment Co., Limited, Hong Kong. | For all items subject to the EAR, see §§ 734.9(e) ¹ and 744.11 of the EAR ² | Presumption of denial | 84 FR 22963, 5/21/19. 85 FR 29853, 5/19/20. 85 FR 36720, 6/18/20. 85 FR 51603, 8/20/20. 85 FR 83769, 12/23/20. 87 FR 6026, 2/3/22. 87 FR [INSERT FR PAGE NUMBER AND 9/9/22].
| Huawei Technical Service Co., Ltd., China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Technologies Co., Ltd., a.k.a., the following two aliases: —Shenzhen Huawei Technologies; and —Huawei Technology, and to include the following addresses and the following 22 affiliated entities: Addresses for Huawei Technologies Co., Ltd.: Bantian Huawei Base, Longgang District, Shenzhen, 518129, China; and No. 1899 Xi Yuan Road, High-Tech West District, Chengdu, 611731; and C1, Wuhan Future City, No. 999 Gaoxin Ave., Wuhan, Hebei Province; and Banxuegang Industrial Park, Buji Longgang, Shenzhen, Guangdong, 518129, China; and R&D Center, No. 2222, Golden Bridge Road, Pu Dong District, Shanghai, China; and Zone G, Huawei Base, Bantian, Longgang District, Shenzhen, China; and Tsim Sha Tsui, Kowloon, Hong Kong. | For all items subject to the EAR, see §§ 734.9(e) ¹ and 744.11 of the EAR ² | Presumption of denial | 84 FR 22963, 5/21/19. 84 FR 43495, 8/21/19. 85 FR 29853, 5/19/20. 85 FR 36720, 6/18/20. 85 FR 51603, 8/20/20. 86 FR 71559, 12/17/21. 87 FR 6026, 2/3/22. 87 FR 8182, 2/14/22. 87 FR 21012, 4/11/22. 87 FR [INSERT FR PAGE NUMBER AND 9/9/22].
| Affiliated entities:
| Beijing Huawei Longshine Information Technology Co., Ltd., a.k.a., the following one alias:
| —Beijing Huawei Longshine, to include the following subordinate. Q80-3-25R, 3rd Floor, No. 3, Shangdi Information Road, Haidian District, Beijing, China.
| Hangzhou New Longshine Information Technology Co., Ltd., Room 605, No. 21, Xinba, Xiachang District, Hangzhou, China.
| Hangzhou Huawei Communication Technology Co., Ltd., Building 1, No. 410, Jianghong Road, Changhe Street, Binjiang District, Hangzhou, Zhejiang, China.
| Hangzhou Huawei Enterprises, No. 410 Jianghong Road, Building 1, Hangzhou, China.
| Huawei Digital Technologies (Suzhou) Co., Ltd., No. 328 XINHU STREET, Building A3, Suzhou (Huawei R&D Center, Building A3, Creative Industrial Park, No. 328, Xinghu Street, Suzhou), Suzhou, Jiangsu, China.
| Huawei Marine Networks Co., Ltd., a.k.a., the following one alias:
| —Huawei Marine;
| HMN Technologies;
| Huahai Zhihui Technology Co., Ltd.; and
| —HMN Tech.
| Building R4, No. 2 City Avenue, Songshan Lake Science & Tech Industry Park, Dongguan, 523808, and No. 62, Second Ave., 5/F-6/F, TEDA, MSD-B2 Area, Tianjin Economic and Technological Development Zone, Tianjin, 300457, China.
| Huawei Mobile Technology Ltd., Huawei Base, Building 2, District B, Shenzhen, China.
| Huawei Tech. Investment Co., U1 Building, No. 1899 Xiyuan Avenue, West Gaoxin District, Chengdu City, 611731, China.
| Huawei Technology Co., Ltd. Chengdu Research Institute, No. 1899, Xiyuan Ave., Hi-Tech Western District, Chengdu, Sichuan Province, 610041, China.
| Huawei Technology Co., Ltd. Hangzhou Research Institute, No. 410, Jianghong Rd., Building 4, Changhe St., Binjiang District, Hangzhou, Zhejiang Province, 310007, China.
| Huawei Technologies Co., Ltd. Beijing Research Institute, No. 3, Xinxi Rd., Huawei Building, ShangDi Information Industrial Base, Haidian District, Beijing, 100095, China; and No. 18, Muhe Rd., Building 1-4, Haidian District, Beijing, China.
| Huawei Technologies Co., Ltd. Material Characterization Lab, Huawei Base, Bantian, Shenzhen 518129, China.
| Huawei Technologies Co., Ltd. Xi'an Research Institute, National Development Bank Building (Zhicheng Building), No. 2, Gaoxin 1st Road, Xi'an High-tech Zone, Xi'an, China.
| Huawei Terminal (Shenzhen) Co., Ltd., Huawei Base, B1, Shenzhen, China.
| Nanchang Huawei Communication Technology, No. 188 Huoju Street, F10-11, Nanchang, China.
| Ningbo Huawei Computer & Net Co., Ltd., No. 48 Daliang Street, Ningbo, China.
| Shanghai Huawei Technologies Co., Ltd., R&D center, No. 2222, Golden Bridge Road, Pu Dong District, Shanghai, 286305 Shanghai, China, China.
| Shenzhen Huawei Anjiexin Electricity Co., Ltd., a.k.a., the following one alias:
| —Shenzhen Huawei Agisson Electric Co., Ltd.
| Building 2, Area B, Putian Huawei Base, Longgang District, Shenzhen, China; and Huawei Base, Building 2, District B, Shenzhen, China.
| Shenzhen Huawei New Technology Co., Ltd., Huawei Production Center, Gangtou Village, Buji Town, Longgang District, Shenzhen, China.
| Shenzhen Huawei Technology Service, Huawei Base, Building 2, District B, Shenzhen, China.
| Shenzhen Huawei Technologies Software, Huawei Base, Building 2, District B, Shenzhen, China.
| Zhejiang Huawei Communications Technology Co., Ltd., No. 360 Jiangshu Road, Building 5, Hangzhou, Zhejiang, China.
| Huawei Technologies Service Co., Ltd., Langfang, Hebei, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Training (Dongguan) Co., Ltd., Dongguan, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huayi Internet Information Service Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Hui Tong Business Ltd., Huawei Base, Electrical Research Center, Shenzhen, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| North Huawei Communication Technology Co., Ltd., Beijing, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Shanghai Haisi Technology Co., Ltd., Shanghai, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Shanghai HiSilicon Technologies Co., Ltd., Room 101, No. 318, Shuixiu Road, Jinze Town (Xiqi), Qingpu District, Shanghai, China. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| Shanghai Mossel Trade Co., Ltd., Shanghai, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Shenzhen HiSilicon Technologies Co., Electrical Research Center, Huawei Base, Shenzhen, China. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| Shenzhen Huawei Technical Services Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Shenzhen Huawei Terminal Commercial Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Shenzhen Huawei Training School Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Shenzhen Huayi Loan Small Loan Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Shenzhen Legrit Technology Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Shenzhen Smartcom Business Co., Ltd., Shenzhen, Guangdong, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Smartcom (Hong Kong) Co., Limited, Sheung Wan, Hong Kong. | For all items subject to the EAR, see §§ 734.9(e) ¹ and 744.11 of the EAR ² | Presumption of denial | 84 FR 22963, 5/21/19. 85 FR 29853, 5/19/20. 85 FR 36720, 6/18/20. 85 FR 51603, 8/20/20. 85 FR 83769, 12/23/20. 87 FR 6026, 2/3/22. 87 FR [INSERT FR PAGE NUMBER AND 9/9/22].
| * * * * * *
| Suzhou Huawei Investment Co., Ltd., Suzhou, Jiangsu, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Wuhan Huawei Investment Co., Ltd., Wuhan, Hubei, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Wulanchabu Huawei Cloud Computing Technology, a.k.a., the following one alias: —Ulan Qab Huawei Cloud Computing Technology. Huawei Cloud Data Center at the Intersection of Manda Road and Jingqi Road, Jining District, Wulanchabu City, Inner Mongolia Autonomous Region, China. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
| Xi'an Huawei Technologies Co., Ltd., Xi'an, Shaanxi, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
| Xi'an Ruixin Investment Co., Ltd., Xi'an, Shaanxi, China. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
COSTA RICA | Huawei Technologies Costa Rica SA, a.k.a., the following one alias: —Huawei Technologies Costa Rica Sociedad Anonima. S.J, Sabana Norte, Detras De Burger King, Edif Gru, Po Nueva, San Jose, Costa Rica. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
* * * * * * *
CUBA | Huawei Cuba, Cuba. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
* * * * * * *
DENMARK | Huawei Denmark, Vestre Teglgade 9, Kobenhavn Sv, Hovedstaden, 2450, Denmark. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
EGYPT | * * * * * *
| Huawei OpenLab Cairo, a.k.a., the following one alias: —Huawei Cairo OpenLab. Cairo-Alex Desert Rd, Al Giza Desert, Giza Governorate, Egypt. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technology, Cairo, Egypt. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
* * * * * * *
FRANCE | * * * * * *
| Huawei Cloud France, Paris, France. | For all items subject to the EAR, see §§ 734.9(e) ¹ and 744.11 of the EAR ² | Presumption of denial | 85 FR 51603, 8/20/20. 87 FR 6026, 2/3/22. 87 FR [INSERT FR PAGE NUMBER AND 9/9/22].
| Huawei France, a.k.a., the following one alias: —Huawei Technologies France SASU. 36-38, quai du Point du Jour, 92659 Boulogne-Billancourt cedex, France. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| Huawei OpenLab Paris, a.k.a., the following one alias: —Huawei Paris OpenLab. 101 Boulevard Murat, 75016 Paris, France. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
* * * * * * *
GERMANY | * * * * * *
| Huawei Cloud Berlin, Berlin Germany. | For all items subject to the EAR, see §§ 734.9(e) ¹ and 744.11 of the EAR ² | Presumption of denial | 85 FR 51603, 8/20/20. 87 FR 6026, 2/3/22. 87 FR [INSERT FR PAGE NUMBER AND 9/9/22].
| Huawei OpenLab Munich, a.k.a., the following one alias: —Huawei Munich OpenLab. Huawei Germany Region R&D Centre Riesstr. 22 80992 Munich, Germany; and Huawei Germany Region R&D Centre Riesstr. 12 80992 Munich, Germany. | For all items subject to the EAR, see §§ 734.9(e) ¹ and 744.11 of the EAR ² | Presumption of denial | 85 FR 51603, 8/20/20. 85 FR 52901, 8/27/20. 86 FR 12531, 3/4/2021. 87 FR 6026, 2/3/22. 87 FR [INSERT FR PAGE NUMBER AND 9/9/22].
| Huawei Technologies Deutschland GmbH, Germany. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Technologies Dusseldorf GmbH, Huawei Germany Region R&D Centre Riesstr. 25, 80992 Munich, Germany, and Am Seestern 24 Duesseldorf, D-40547 Germany. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
* * * * * * *
INDIA | * * * * * *
| Huawei OpenLab Delhi, a.k.a., the following one alias: —Huawei Delhi OpenLab. Delhi, India. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies India Private Limited, a.k.a., the following one alias: —Huawei Technologies India Pvt., Ltd. Level-3/4, Leela Galleria, The Leela Palace, No. 23, Airport Road, Bengaluru, 560008, India; and SYNO 37, 46,45/3,45/4 ETC KNO 1540, Kundalahalli Village Bengaluru Bangalore KA 560037 India. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
INDONESIA | Huawei Tech Investment, PT, Bri Ii Building 20Th Floor, Suite 2005, Jl. Jend., Sudirman Kav. 44-46, Jakarta, 10210, Indonesia. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
* * * * * * *
ISRAEL | * * * * * *
| Toga Networks, 4 Haharash St., Hod Hasharon, Israel. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
ITALY | Huawei Italia, Via Lorenteggio, 240, Tower A, 20147 Milan, Italy. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| Huawei Milan Research Institute, Milan, Italy. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
JAMAICA | Huawei Technologies Jamaica Company Limited, Kingston, Jamaica. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
JAPAN | Huawei Technologies Japan K.K., Japan. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
JORDAN | Huawei Technologies Investment Co. Ltd., Amman, Jordan. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
KAZAKHSTAN | * * * * * *
| Huawei Technologies LLC Kazakhstan, 191 Zheltoksan St., 5th floor, 050013, Bostandyk, District of Almaty, Republic of Kazakhstan. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
LEBANON | * * * * * *
| Huawei Technologies Lebanon, Beirut, Lebanon. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
MADAGASCAR | Huawei Technologies Madagascar Sarl, Antananarivo, Madagascar. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
* * * * * * *
MEXICO | Huawei Cloud Mexico, Mexico City, Mexico. | For all items subject to the EAR, see §§ 734.9(e) ¹ and 744.11 of the EAR ² | Presumption of denial | 85 FR 51603, 8/20/20. 87 FR 6026, 2/3/22. 87 FR [INSERT FR PAGE NUMBER AND 9/9/22].
| Huawei OpenLab Mexico City, a.k.a., the following one alias: —Huawei Mexico City OpenLab. Mexico City, Mexico. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies De Mexico S.A., Avenida Santa Fé No. 440, Torre Century Plaza Piso 15, Colonia Santa Fe, Delegación Cuajimalpa de Morelos, C.P. 05348, Distrito Federal, CDMX, Mexico; and Laza Carso, Torre Falcón, Lago Zurich No. 245, Piso 18, Colonia Ampliacion Granda, Delegación Miguel Hidalgo, CDMX, Mexico. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
MOROCCO | Huawei Technologies Morocco, Immeuble High Tech, 4eme Etage, Plateaux N 11, 12 Et 13, Hay Riad —Rabat, Morocco. | For all items subject to the EAR, see §§ 734.9(e) ¹ and 744.11 of the EAR ² | Presumption of denial | 85 FR 51603, 8/20/20. 87 FR 6026, 2/3/22. 87 FR [INSERT FR PAGE NUMBER AND 9/9/22].
NETHERLANDS | * * * * * *
| Huawei Cloud Netherlands, Amsterdam, Netherlands. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies Coöperatief U.A., Netherlands. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
NEW ZEALAND | Huawei Technologies (New Zealand) Company Limited, 80 Queen Street, Auckland Central, Auckland, 1010, New Zealand. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
* * * * * * *
OMAN | * * * * * *
| Huawei Tech Investment Oman LLC, Muscat, Oman. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
PAKISTAN | * * * * * *
| Huawei Technologies Pakistan (Private) Limited, Islamabad, Pakistan. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
PANAMA | Huawei Technologies Cr Panama S.A, Ave. Paseo del Mar, Costa del Este Torre MMG, Piso 17 Ciudad de Panamá, Panama. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
PARAGUAY | Huawei Technologies Paraguay S.A., Asuncion, Paraguay. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
PERU | Huawei Cloud Peru, Lima, Peru. | For all items subject to the EAR, see §§ 734.9(e) ¹ and 744.11 of the EAR ² | Presumption of denial | 85 FR 51603, 8/20/20. 87 FR 6026, 2/3/22. 87 FR [INSERT FR PAGE NUMBER AND 9/9/22].
* * * * * * *
PORTUGAL | Huawei Technology Portugal, Avenida Dom João II, 51B-11°.A 1990-085 Lisboa, Portugal. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
QATAR | Huawei Tech Investment Limited, Doha, Qatar. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
ROMANIA | Huawei Technologies Romania Co., Ltd., Ion Mihalache Blvd, No. 15-17, 1st District, 9th Floor of Bucharest Tower center, Bucharest, Romania. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
RUSSIA | * * * * * *
| Huawei Cloud Russia, Moscow, Russia. | For all items subject to the EAR, see §§ 734.9(e) ¹ and 744.11 of the EAR ² | Presumption of denial | 85 FR 51603, 8/20/20. 87 FR 6026, 2/3/22. 87 FR [INSERT FR PAGE NUMBER AND 9/9/22].
| Huawei OpenLab Moscow, a.k.a., the following one alias: —Huawei Moscow OpenLab, Moscow, Russia. | For all items subject to the EAR, see §§ 734.9(e) ¹ and 744.11 of the EAR ² | Presumption of denial | 85 FR 51603, 8/20/20. 87 FR 6026, 2/3/22. 87 FR [INSERT FR PAGE NUMBER AND 9/9/22].
| Huawei Russia, Business-Park “Krylatsky Hills”, 17 bldg. 2, Krylatskaya Str., Moscow 121614, Russia. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
* * * * * * *
SINGAPORE | * * * * * *
| Huawei Cloud Singapore, Singapore, Singapore. | For all items subject to the EAR, see §§ 734.9(e) ¹ and 744.11 of the EAR ² | Presumption of denial | 85 FR 51603, 8/20/20. 87 FR 6026, 2/3/22. 87 FR [INSERT FR PAGE NUMBER AND 9/9/22].
| Huawei International Pte. Ltd., Singapore. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei OpenLab, Singapore, a.k.a., the following one alias: —Huawei Singapore OpenLab, Singapore, Singapore. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
SOUTH AFRICA | * * * * * *
| Huawei Cloud South Africa, Johannesburg, South Africa. | For all items subject to the EAR, see §§ 734.9(e) ¹ and 744.11 of the EAR ² | Presumption of denial | 85 FR 51603, 8/20/20. 87 FR 6026, 2/3/22. 87 FR [INSERT FR PAGE NUMBER AND 9/9/22].
| Huawei OpenLab, Johannesburg, a.k.a., the following one alias: —Huawei Johannesburg OpenLab, Johannesburg, South Africa. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies South Africa Pty Ltd., 128 Peter St Block 7 Grayston Office Park, Sandton, Gauteng, 1682, South Africa. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
* * * * * * *
SRI LANKA | Huawei Technologies Lanka Company (Private) Limited, Colombo, Sri Lanka. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
SWEDEN | * * * * * *
| Huawei Sweden, Skalholtsgatan 9-11 Kista, 164 40 Stockholm, Sweden. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
SWITZERLAND | * * * * * *
| Huawei Cloud Switzerland, Bern, Switzerland. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies Switzerland AG, Liebefeld, Bern, Switzerland. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
* * * * * * *
TAIWAN | * * * * * *
| Xunwei Technologies Co., Ltd., Taipei, Taiwan. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
THAILAND | * * * * * *
| Huawei Cloud Thailand, Bangkok, Thailand. | For all items subject to the EAR, see §§ 734.9(e) ¹ and 744.11 of the EAR ² | Presumption of denial | 85 FR 51603, 8/20/20. 87 FR 6026, 2/3/22. 87 FR [INSERT FR PAGE NUMBER AND 9/9/22].
| Huawei OpenLab Bangkok, a.k.a., the following one alias: —Huawei Bangkok OpenLab. Bangkok, Thailand. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies (Thailand) Co., 87/1 Wireless Road, 19th Floor, Capital Tower, All Seasons Place, Pathumwan, Bangkok, 10330, Thailand. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
TURKEY | * * * * * *
| Huawei OpenLab Istanbul, a.k.a., the following one alias: —Huawei Istanbul OpenLab. Istanbul, Turkey. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
* * * * * * *
UNITED ARAB EMIRATES | * * * * * *
| Huawei OpenLab Dubai, a.k.a., the following one alias: —Huawei Dubai OpenLab. Dubai, United Arab Emirates. | For all items subject to the EAR, see §§ 734.9(e) ¹ and 744.11 of the EAR ² | Presumption of denial | 85 FR 51603, 8/20/20. 87 FR 6026, 2/3/22. 87 FR [INSERT FR PAGE NUMBER AND 9/9/22].
| * * * * * *
* * * * * * *
UNITED KINGDOM | * * * * * *
| Centre for Integrated Photonics Ltd., B55 Adastral Park, Pheonix House, Martlesham Heath, Ipswich, IP5 3RE United Kingdom. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
| Huawei Global Finance (UK) Limited, Great Britain. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Technologies R&D UK, a.k.a., the following two aliases: —Huawei Research & Development (UK) Ltd; and —Huawei Technologies Research & Development (UK)). Former Spicers Site Sawston Bypass Sawston Cambridge Cambridgeshire CB22 3JG, England; and 302 Cambridge Science Park, Milton Road, Cambridge, CB4 0WG, England; and Phoenix House (B55) Adastral Park, Martlesham Heath, Ipswich, Suffolk. IP5 3RE. | For all items subject to the EAR, see §§ 734.9(e) ¹ and 744.11 of the EAR ² | Presumption of denial | 85 FR 51603, 8/20/20. 87 FR 6026, 2/3/22. 87 FR [INSERT FR PAGE NUMBER AND 9/9/22].
| Huawei Technologies (UK) Co., Ltd., a.k.a., the following one alias: —Huawei Software Technologies Co. Ltd. 300 South Oak Way, Green Park, Reading, RG2 6UF; and 6 Mitre Passage, SE 10 0ER, United Kingdom. | For all items subject to the EAR, see §§ 734.9(e) ¹ and 744.11 of the EAR ² | Presumption of denial | 84 FR 43495, 8/21/19. 85 FR 29853, 5/19/20. 85 FR 36720, 6/18/20. 85 FR 51603, 8/20/20. 87 FR 6026, 2/3/22. 87 FR [INSERT FR PAGE NUMBER AND 9/9/22].
| * * * * * *
| Proven Glory, British Virgin Islands | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Proven Honour, British Virgin Islands. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| * * * * * *
VIETNAM | Huawei Technologies (Vietnam) Company Limited, Hanoi, Vietnam. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].
| Huawei Technology Co. Ltd., Hanoi, Vietnam. | For all items subject to the EAR, see §§ 734.9(e) ¹ and 744.11 of the EAR ² | Presumption of denial | 84 FR 22963, 5/21/19. 85 FR 29853, 5/19/20. 85 FR 36720, 6/18/20. 85 FR 51603, 8/20/20. 87 FR 6026, 2/3/22. 87 FR [INSERT FR PAGE NUMBER AND 9/9/22].

* * * * *

PART 772—[AMENDED]

4. The authority citation for 15 CFR part 772 is revised to read as follows:

Authority: 50 U.S.C. 4801-4852; 50 U.S.C. 4601 et seq.; 50 U.S.C. 1701 et seq.; E.O. 13222, 66 FR 44025, 3 CFR, 2001 Comp., p. 783.

5. Section 772.1 is amended by

a. Removing the definitions of “Standard” and “Standards organization”; and

b. Adding the definition of “Standards-related activity” in alphabetical order.

The addition reads as follows:

§ 772.1 Definitions of terms as used in the Export Administration Regulations (EAR).

* * * * *

Standards-related activity. “Standards-related activity” includes the development, adoption, or application of a standard (i.e., any document or other writing that provides, for common and repeated use, rules, guidelines, technical or other characteristics for products or related processes and production methods, with which compliance is not mandatory), including but not limited to conformity assessment procedures, with the intent that the resulting standard will be “published.” A “standards-related activity” includes an action taken for the purpose of developing, promulgating, revising, amending, reissuing, interpreting, implementing or otherwise maintaining or applying such a standard.

* * * * *

Matthew S. Borman,
Deputy Assistant Secretary for Export Administration.

[FR Doc. 2022-19415 Filed 9-8-22; 8:45 am]

BILLING CODE 3510-33-P